DEPARTMENT OF THE INTERIOR

National Park Service

Notice of Inventory Completion: U.S. Department of Defense, Army Corps of Engineers, Sacramento District, Sacramento, CA, and UCLA Fowler Museum, University of California, Los Angeles, Los Angeles, CA

AGENCY: National Park Service, Interior.

ACTION: Notice.

SUMMARY: Pursuant to the Native American Graves Protection and Repatriation Act (NAGPRA), the U.S. Department of Defense, Army Corps of Engineers, Sacramento District, Sacramento, CA (Federal agency that has control of the cultural items), and UCLA Fowler Museum, University of California, Los Angeles, Los Angeles, CA (museum that has physical custody of the cultural items), determined that the physical remains of six individuals of Native American ancestry and five associated funerary objects in the Federal agency's collections, described below in Information about cultural items, are culturally affiliated with the Picayune Rancheria of Chukchansi Indians of California; Santa Rosa Indian Community of the Santa Rosa Rancheria, California (also known as Santa Rosa Rancheria Tachi Yokut Tribe, California); Table Mountain Rancheria of California; and Tule River Indian Tribe of the Tule River Reservation, California and have a cultural relationship with the Tinoqui-Chalola Council of Kitanemuk and Yowlumne Tejon Indians and the Wukchumni Tribe of Yokut Indians (nonfederally recognized Indian groups).

The National Park Service publishes this notice on behalf of the Federal agency as part of the National Park Service's administrative responsibilities under NAGPRA. The Federal agency is solely responsible for information and determinations stated in this notice. The National Park Service is not responsible for the Federal agency's determinations.

Information about NAGPRA is available online at http://www.cr.nps.gov/nagpra.

DATES: Repatriation of the cultural items to the Santa Rosa Indian Community of the Santa Rosa Rancheria, California (also known as Santa Rosa Rancheria Tachi Yokut Tribe, California) may proceed after November 12, 2004, if no additional claimants come forward. Representatives of any other Indian tribe that believes itself to be culturally affiliated with the cultural items should contact the Federal agency before November 12, 2004.

SUPPLEMENTARY INFORMATION:

Authority. 25 U.S.C. 3001 et seq. and 43 CFR Part 10.

Contact. Contact Richard M. Perry, U.S. Army Corps of Engineers, Sacramento District, 1325 J Street, Sacramento, CA 95814, telephone (916) 557-5218, regarding determinations stated in this notice or to claim the cultural items described in this notice.

Consultation. The Federal agency identified the cultural items and the cultural affiliation of the cultural items in consultation with museum officials and representatives of the Big Sandy Rancheria of Mono Indians of California; Cold Springs Rancheria of Mono Indians of California; Picayune Rancheria of Chukchansi Indians of California; Santa Rosa Indian Community of the Santa Rosa Rancheria, California (also known as Santa Rosa Rancheria Tachi Yokut Tribe, California); Table Mountain Rancheria of California; Tinoqui-Chalola Council of Kitanemuk and Yowlumne Tejon Indians (a nonfederally recognized Indian group); Tule River Indian Tribe of the Tule River Reservation, California; and Wukchumni Tribe of Yokut Indians (a nonfederally recognized Indian group).

Information about cultural items. In 1958, David Pendergast and Clement Meighan of the University of California, Los Angeles, under joint contract with the National Park Service, removed human remains representing a minimum of six individuals from the Greasy Creek site (CA-TUL-1), Tulare County, CA. At the time of removal, the site was on private land.

The site was excavated prior to the construction of the Terminus Dam by the U.S. Army Corps of Engineers. Human remains representing two individuals were recovered from burials, while human remains representing as many as four individuals were recovered from midden contexts. No known individuals were identified. The five associated funerary objects are three animal bones, one tubular bone bead, and one lithic fragment.

Burial contexts identify the human remains removed from the Greasy Creek site as Native American. According to the cultural resource specialist from the Santa Rosa Rancheria, the site is located within the traditional territory of the Yokut Indians. The associated funerary objects are consistent with Native American burial goods found in the area. Based on site location, the upper levels of the site may be identified with the Wukchumni Yokuts historic site of čoiši šyu (“dog place”). Materials from the upper levels of the site are generally comparable to materials from the nearby village of Slick Rock, which dates to the period prior to contact.

Determinations. Under 25 U.S.C. 3003, Federal agency officials determined that the human remains represent the physical remains of six individuals of Native American ancestry. Federal agency officials determined that the five objects are reasonably believed to have been placed with or near individual human remains at the time of death or later as part of the death rite or ceremony. Federal agency officials determined that the human remains and associated funerary objects are culturally affiliated or have a cultural relationship with the Indian tribes and groups listed above in Summary.

Notification. The Federal agency is responsible for sending copies of this notice to the consulted Indian tribes and groups listed above in Consultation.

Dated: August 3, 2004.
Sherry Hutt,
Manager, National NAGPRA Program.

[FR Doc. 04-22829 Filed 10-8-04; 8:45 am]

BILLING CODE 4312-50-S